DEPARTMENT OF THE INTERIOR

Fish and Wildlife Service

[Docket No. FWS-HQ-IA-2024-0113; FXIA16710900000-245-FF09A30000]

Emergency Exemption: Issuance of Emergency Permit to Import Endangered Species

AGENCY: Fish and Wildlife Service, Interior.

ACTION: Notice of issuance of permit.

SUMMARY: We, the U.S. Fish and Wildlife Service, have waived the 30-day public notice period and have issued an endangered species permit for import of up to 20 viable eggs salvaged from the nests of wild piping plover (Charadrius melodus), an endangered bird species. We issue this permit under the Endangered Species Act and Migratory Bird Treaty Act.

ADDRESSES: Materials pertaining to the permit application are available by submitting a Freedom of Information Act (FOIA) request to the Service's FOIA office at https://www.doi.gov/foia/foia-request-form.

FOR FURTHER INFORMATION CONTACT: Brenda Tapia, by phone at 703-358-2104 or via email at DMAFR@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued an emergency permit to conduct certain activities with the endangered piping plover (Charadrius melodus) in response to a permit application that we received under the authority of section 10(a)(1)(A) of the Endangered Species Act of 1973 (ESA; 16 U.S.C. 1531 et seq.)

We issued the requested permit subject to certain conditions set forth in the permit. For the application, we found that (1) the application was filed in good faith, (2) the granted permit would not operate to the disadvantage of the endangered species, and (3) the granted permit would be consistent with the purposes and policy set forth in section 2 of the ESA.

Permit Issued Under Emergency Exemption
Permit No. | Applicant | Permit issuance date
PER10966266 | U.S. Fish and Wildlife Service, Michigan Field Office | June 10, 2024.

The Service's Michigan Field Office requested a permit to import up to 20 viable eggs salvaged from wild piping plover nests collected by the Canadian Wildlife Service and Birds Canada in Ontario, Canada, due to the nests being abandoned by the parents or the eggs being buried in sand or partially covered by water. The Service determined that an emergency affecting the viability of the piping plover eggs existed, and that no reasonable alternative was available to the applicant.

On June 10, 2024, the Service issued permit no. PER10966266 to the U.S. Fish and Wildlife Service's Michigan Field Office, to import up to 20 viable eggs salvaged from wild piping plover nests for the purpose of enhancement of the survival of the species. The eggs were salvaged so that the Michigan Field Office could transfer them to a permitted captive-rearing facility in the United States for eventual release of the fledged birds into the wild.

Authority

We issue this notice under the authority of the Endangered Species Act of 1973, as amended (ESA; 16 U.S.C. 1531 et seq.), and its implementing regulations.

Brenda Tapia,
Supervisory Program Analyst/Data Administrator, Branch of Permits, Division of Management Authority.

[FR Doc. 2024-14206 Filed 6-27-24; 8:45 am]

BILLING CODE 4333-15-P